DEPARTMENT OF DEFENSE

Office of the Secretary

National Intelligence University Board of Visitors; Notice of Federal Advisory Committee Meeting; Cancellation

AGENCY: Under Secretary of Defense for Intelligence, Department of Defense.

ACTION: Notice; cancellation.

SUMMARY: On Thursday, January 18, 2018 (83 FR 2625-2626), the Department of Defense (DoD) published a notice announcing a meeting of the National Intelligence University Board of Visitors that was to take place on Tuesday, January 23, 2018 and Wednesday, January 24, 2018. Due to a lapse in appropriations for the Department of Defense, the DoD is cancelling the January 23, 2018 and January 24, 2018 meeting.

FOR FURTHER INFORMATION CONTACT: Dr. Susan Studds, (301) 243-2121 (Voice), (301) 277-7067 (Facsimile), susan.studds@dodiis.mil (Email). Mailing address is President, DIA National Intelligence University, 7400 Pentagon, Washington, DC 20301-7400. website: http://ni-u.edu/wp/about-niu/leadership-2/board-of-visitors/.

SUPPLEMENTARY INFORMATION: Due to the lapse in appropriations for the DoD, the Designated Federal Officer for the National Intelligence University Board of Visitors along with the DoD was unable to provide public notification required by 41 CFR 102-3.150(a) concerning the cancellation of its previously announced meeting on January 23, 2018 and January 24, 2018 of the National Intelligence University Board of Visitors that published on Thursday, January 18 2018. Accordingly, the Advisory Committee Management Officer for the Department of Defense, pursuant to 41 CFR 102-3.150(b), waives the 15-calendar day notification requirement.

Dated: January 23, 2018.
Aaron Siegel,
Alternate OSD Federal Register Liaison Officer, Department of Defense.

[FR Doc. 2018-01507 Filed 1-25-18; 8:45 am]

BILLING CODE 5001-06-P